DEPARTMENT OF THE TREASURY

Submission for OMB Review; Comment Request

July 11, 2011.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11010, 1750 Pennsylvania Avenue, NW., Washington, DC 20220.

DATES: Written comments should be received on or before August 15, 2011 to be assured of consideration.

United States Mint

OMB Number: 1525-0012.

Type of Review: Revision of a currently approved collection.

Title: Generic Clearance for Voluntary Surveys to Implement E.O. 12882.

Abstract: This generic clearance for an undefined number of customer satisfaction and opinion surveys or focus group interviews will allow the United States Mint to assess the acceptance of, potential demand for, and barriers to acceptance/increased demand for current and future products, and the needs and desires of customers for more efficient, economical services.

Affected Public: Individuals and Households, Businesses and Organizations.

Estimated Total Annual burden Hours: 37,809.

Bureau Clearance Officer: Yvonne Pollard, United States Mint, 799 9th Street, NW., 4th Floor, Washington, DC 20220; (202) 354-6784.

OMB Reviewer: Shagufta Ahmed, Office of Management and Budget, New Executive Office Building, Room 10235, Washington, DC 20503; (202) 395-7873.

Dawn D. Wolfgang,
Treasury PRA Clearance Officer.

[FR Doc. 2011-17755 Filed 7-14-11; 8:45 am]

BILLING CODE 4810-37-P